DEPARTMENT OF HEALTH AND HUMAN SERVICES

National Institutes of Health

National Institute of Mental Health; Notice of Workshops

Notice is hereby given of a series of four scientific workshops organized by the Interagency Autism Coordinating Committee (IACC).

The workshops will be closed to the public with attendance limited to invited participants. The purpose of the scientific workshops is to generate research priorities that will be used to develop the IACC strategic plan for Autism Spectrum Disorder (ASD) research. The next meeting of the IACC when research priorities will be discussed is March 14, 2008.

Name of Committee: Interagency Autism Coordinating Committee (IACC).

Type of meeting: Scientific workshops.

Date: January 15-18, 2008.

Time: 9 a.m. to 5 p.m. each day.

Agenda: Review of research accomplishments, funding initiatives and research resources for ASD by scientists and other ASD stakeholders; discussion and generation of high priority research areas and initiatives for developing the IACC strategic plan for ASD research.

Place: The Westin Arlington Gateway, 801 North Glebe Road, Arlington, VA 22203, 703-717-6200.

Contact Person: Joyce Y. Chung, MD, Interagency Autism Coordinating Committee, National Institute of Mental Health, NIH, 6001 Executive Boulevard, NSC, Room 6198, Bethesda, MD 20892-9669, 301-443-3621.

Information about the IACC is available on the Web site: http://www.nimh.nih.gov/research-funding/scientific-meetings/recurring-meetings/iacc/index.shtml.

Dated: December 27, 2007.
Anna Snouffer,
Acting Director, Office of Federal Advisory Committee Policy.

[FR Doc. 07-6293 Filed 1-4-08; 8:45 am]

BILLING CODE 4140-01-M